FEDERAL COMMUNICATIONS COMMISSION

47 CFR Part 73

[MB Docket No. 21-72; RM-11888; DA 21-271; FR ID 18713]

Television Broadcasting Services; Green Bay, Wisconsin; Correction

AGENCY: Federal Communications Commission.

ACTION: Proposed rule; correction.

SUMMARY: The Federal Communications Commission published a document in the Federal Register of March 25, 2021, concerning a petition for rulemaking filed by WLUK Licensee, LLC (Licensee) requesting the substitution of channel 18 for channel 12 at Green Bay, Wisconsin in the DTV Table of Allotments. The document contained the incorrect call sign in the summary section.

DATES: April 2, 2021.

FOR FURTHER INFORMATION CONTACT: Joyce Bernstein, Joyce.Bernstein@fcc.gov, Media Bureau, (202) 418-1647.

SUPPLEMENTARY INFORMATION:

Correction

In FR Doc. 2021-06155, in the Federal Register of March 25, 2021, on page 15853, in the third column, correct the Summary caption to read:

SUMMARY: The Video Division has before it a petition for rulemaking filed November 27, 2020 (Petition) by WLUK Licensee, LLC (Licensee), the licensee of WLUK-TV (FOX), channel 12, Green Bay, Wisconsin. The Licensee requests the substitution of channel 18 for channel 12 at Green Bay, Wisconsin the digital television (DTV) Table of Allotments.

Dated: March 25, 2021.
Thomas Horan,
Chief of Staff, Media Bureau.

[FR Doc. 2021-06854 Filed 4-1-21; 8:45 am]

BILLING CODE 6712-01-P